DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[2/22/2013 through 4/2/2013]
Firm name | Firm address | Date accepted for investigation | Product(s)
Display Devices, Inc | 5880 Sheridan Blvd., Arvada, CO 80003 | 3/5/2013 | The firm designs and manufacturers audio-visual support products for a variety of display applications.
Versatility Tool Works and Manufacturing Company | 11532 South Mayfield Avenue, Alsip, IL 60803 | 3/5/2013 | The firm manufacturers stamped metal components.
Air Quality Engineering, Inc | 7140 Northland Drive North, Brooklyn Park, MN 55428 | 3/13/2013 | The firm anufactures sheet metal air cleaners and air filters utilized for machine tool mist removal, welding fume removal, restaurant kitchen exhaust removal, and smoke pollen filtration for the residential, commercial, commercial kitchen and industrial markets.
T&T Anodizing, Inc | 35 Maple Street, Lowell, MA 1852 | 3/26/2013 | The firm provides anodic and chemical conversion coatings on aluminum alloys. Their services also include stainless steel passivation, painting, powder coating & silk screening.
Donna Marberger d/b/a Donna M Collection | 688 South Santa Fe #103, Los Angeles, CA 90021 | 3/26/2013 | The firm is engaged in the design, production and sales of women's clothing. Each piece of clothing sewn locally is dyed in dowtown Los Angeles dye houses.
Mobel, Inc | 2130 Industrial Park Road, Ferdinand, IN 47532 | 3/26/2013 | The firm manufactures wood furniture, primarily for residential bedroom use.
Winn Machine, Inc | 720 Boyd Blvd., LaPorte, IN 46350 | 3/27/2013 | The firm manufactures turned, milled and fabricated metal and plastic parts for compressors and other machines.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: April 2, 2013.
Michael DeVillo,
Eligibility Examiner.

[FR Doc. 2013-08072 Filed 4-5-13; 8:45 am]

BILLING CODE 3510-WH-P